FEDERAL ELECTION COMMISSION

[Notice 2023-11]

Filing Dates for the Utah Special Election in the 2nd Congressional District

AGENCY: Federal Election Commission.

ACTION: Notice of filing dates for special election.

SUMMARY: Utah has scheduled a Special General Election on November 21, 2023, to fill the U.S. House of Representatives seat in the 2nd Congressional District being vacated by Representative Chris Stewart. A Special Primary Election, if necessary, will be held on September 5, 2023. Under Utah law, partisan candidates can seek nomination at their party's convention and/or gather signatures to appear on the primary election ballot. Political committees participating in the Utah special elections are required to file pre- and post-election reports. Filing deadlines for these reports are affected by whether one or two elections are held.

FOR FURTHER INFORMATION CONTACT: Ms. Elizabeth S. Kurland, Information Division, 1050 First Street NE, Washington, DC 20463; Telephone: (202) 694-1100; Toll Free (800) 424-9530.

SUPPLEMENTARY INFORMATION:

Special Primary Election

All principal campaign committees of candidates only participating in the Utah Special Primary, if necessary, shall file a Pre-Primary Report on August 24, 2023. (See charts below for the closing date for the report).

Special Primary and General Elections

If two elections are held, all principal campaign committees of candidates participating in the Utah Special Primary and Special General Elections shall file a Pre-Primary Report on August 24, 2023; a Pre-General Report on November 9, 2023; and a Post-General Report on December 21, 2023. (See charts below for the closing date for each report).

Special General Election

All principal campaign committees of candidates only participating in the Utah Special General shall file a Pre-General Report on November 9, 2023; and a Post-General Report on December 21, 2023. (See charts below for the closing date for each report.)

Note that these reports are in addition to the campaign committee's regular quarterly filings. (See charts below for the closing date for each report).

Unauthorized Committees (PACs and Party Committees)

Political committees not filing monthly are subject to special election reporting if they make previously undisclosed contributions or expenditures in connection with the Utah Special Primary or Special General Election by the close of books for the applicable report(s). (See charts below for the closing date for each report.)

Committees filing monthly that make contributions or expenditures in connection with the Utah Special Primary or Special General Election will continue to file according to the monthly reporting schedule.

Additional disclosure information for the Utah special elections may be found on the FEC website at https://www.fec.gov/help-candidates-and-committees/dates-and-deadlines/.

Disclosure of Lobbyist Bundling Activity

Principal campaign committees, party committees and leadership PACs that are otherwise required to file reports in connection with the special elections must simultaneously file FEC Form 3L if they receive two or more bundled contributions from lobbyists/registrants or lobbyist/registrant PACs that aggregate in excess of $21,800 during the special election reporting periods. (See charts below for closing date of each period.) 11 CFR 104.22(a)(5)(v), (b), 110.17(e)(2), (f).

Calendar of Reporting Dates for Utah Special Elections
Report | Close of books ¹ | Reg./Cert. and overnight mailing deadline | Filing deadline
Campaign Committees Involved in Only the Special Primary (09/05/2023) Must File:
Pre-Primary | 08/16/2023 | 08/21/2023 | 08/24/2023
October Quarterly | 09/30/2023 | 10/15/2023 | 10/15/2023 ²
PACs and Party Committees Not Filing Monthly Involved in Only the Special Primary (09/05/2023) Must File:
Pre-Primary | 08/16/2023 | 08/21/2023 | 08/24/2023
Year-End | 12/31/2023 | 01/31/2024 | 01/31/2024
If Two Elections Are Held, Campaign Committees Involved in Both the Special Primary (09/05/2023) and the Special General (11/21/2023) Must File:
Pre-Primary | 08/16/2023 | 08/21/2023 | 08/24/2023
October Quarterly | 09/30/2023 | 10/15/2023 | 10/15/2023 ²
Pre-General | 11/01/2023 | 11/06/2023 | 11/09/2023
Post-General | 12/11/2023 | 12/21/2023 | 12/21/2023
Year-End | 12/31/2023 | 01/31/2024 | 01/31/2024
If Two Elections Are Held, PACs and Party Committees Not Filing Monthly Involved in Both the Special Primary (09/05/2023) and the Special General (11/21/2023) Must File:
Pre-Primary | 08/16/2023 | 08/21/2023 | 08/24/2023
Pre-General | 11/01/2023 | 11/06/2023 | 11/09/2023
Post-General | 12/11/2023 | 12/21/2023 | 12/21/2023
Year-End | 12/31/2023 | 01/31/2024 | 01/31/2024
Campaign Committees Involved in Only the Special General (11/21/2023) Must File:
Pre-General | 11/01/2023 | 11/06/2023 | 11/09/2023
Post-General | 12/11/2023 | 12/21/2023 | 12/21/2023
Year-End | 12/31/2023 | 01/31/2024 | 01/31/2024
PACs and Party Committees Not Filing Monthly Involved in Only the Special General (11/21/2023) Must File:
Pre-General | 11/01/2023 | 11/06/2023 | 11/09/2023
Post-General | 12/11/2023 | 12/21/2023 | 12/21/2023
Year-End | 12/31/2023 | 01/31/2024 | 01/31/2024

Dated: June 20, 2023.
On behalf of the Commission,
Dara S. Lindenbaum,
Chair, Federal Election Commission.

[FR Doc. 2023-13437 Filed 6-23-23; 8:45 am]

BILLING CODE 6715-01-P